DEPARTMENT OF ENERGY

Federal Energy Regulatory Commission

[Docket No. EC02-70-000, et al.]

North Atlantic Energy Corporation, et al.; Electric Rate and Corporate Regulation Filings

May 22, 2002.

The following filings have been made with the Commission. The filings are listed in ascending order within each docket classification.

1. North Atlantic Energy Corporation, The United Illuminating Company, Great Bay Power Corporation, New England Power Company, The Connecticut Light and Power Company, Canal Electric Company, Little Bay Power Corporation, New Hampshire Electric Cooperative, Inc., Public Service Company of New Hampshire, and FPL Energy Seabrook, LLC

[Docket Nos. EC02-70-000 and ER02-1832-000]

Take notice that on May 17, 2002, North Atlantic Energy Corporation, The United Illuminating Company, Great Bay Power Corporation, New England Power Company, The Connecticut Light and Power Company, Canal Electric Company, Little Bay Power Corporation, New Hampshire Electric Cooperative, Inc., Public Service Company of New Hampshire, and FPL Energy Seabrook, LLC (FPLE Seabrook) (collectively, Applicants) tendered for filing with the Federal Energy Regulatory Commission a joint application pursuant to Sections 203 and 205 of the Federal Power Act, seeking approvals and acceptances relating to the sale of the Seabrook Nuclear Power Station in Seabrook, New Hampshire.

Comment Date: July 16, 2002.

2. Central Illinois Generation, Inc.

[Docket No. EG02-126-000]

Take notice that on April 29, 2002, Central Illinois Generation, Inc. (CIGI), 17751 North CILCO Road, Canton, IL 61520, filed with the Federal Energy Regulatory Commission (Commission), an application for determination of exempt wholesale generator status pursuant to Part 365 of the Commission's regulations.

CIGI is a corporation located in the State of Illinois which states it will be engaged exclusively in the business of generating electric energy and selling that energy at wholesale. The eligible facilities include (1) the Edwards facility, a 740 MW coal-fired station located in Bartonville, Illinois, (2) the Duck Creek facility, a 366 MW coal-fired station located in Canton, Illinois, and (3) the Sterling Avenue facility, a 30 MW gas-fired peaking station located in Peoria, Illinois.

Comment Date: June 5, 2002.

3. CED Rock Springs, Inc.

[Docket No. EG02-127-000]

Take notice that on May 1, 2002, CED Rock Springs, Inc. (CEDRS) tendered for filing with the Federal Energy Regulatory Commission (Commission), an application for determination of exempt wholesale generator status pursuant to part 365 of the Commission's regulations.

CEDRS owns and operates two units of a six (6) unit, natural gas fired, simple cycle, combustion turbine generating facility with a total capacity of 1,020 MW, known as the Rock Springs Generating Facility (to be located in Rock Springs, Maryland). When completed, the Project will be interconnected to the transmission system of PJM. The units owned and operated by CEDRS are scheduled to begin commercial operation during the summer of 2002.

Comment Date: June 6, 2002.

4. Cabazon Wind Partners, LLC

[Docket No. EG02-128-000]

Take notice that on May 1, 2002, Cabazon Wind Partners, LLC (the Applicant), with its principal office at 7260 Siete Leguas, P. O. Box 675143, Rancho Santa Fe, California 92067, filed with the Commission an application for determination of exempt wholesale generator status pursuant to Part 365 of the Commission's regulations.

Applicant states that it is a California limited liability company engaged directly and exclusively in the business of developing, owning and operating an approximately 41 MW generating facility located near the town of Cabazon in Riverside County, California. Electric energy produced by the facility will be sold exclusively at wholesale by Applicant.

Comment Date: June 6, 2002.

5. ISO New England Inc.

[Docket No. EL00-62-045]

Take notice that on May 15, 2002, ISO New England Inc. (the ISO) tendered for filing with the Federal Energy Regulatory Commission (Commission), a compliance filing pursuant to the Commission's April 15, 2002 order issued in the above proceeding.

Comment Date: June 5, 2002.

6. New York Independent System Operator, Inc.

[Docket Nos. ER00-3591-011, ER00-1969-013, ER00-3038-006, and EL00-70-007]

Take notice that on May 15, 2002, the New York Independent System Operator, Inc. (NYISO) made a compliance filing to effectuate revisions to its Open Access Transmission Tariff and Market Administration and Control Area Services Tariff that would ensure that a fixed block generating unit that forces a more economical unit to be backed down will not set an hourly price in the day-ahead market. The NYISO also requests avoidance of retroactive application of the revisions and a deferral of their effective date in a separate motion.

The NYISO has mailed a copy of this compliance filing to all parties on the service list in the above-captioned proceedings and upon all persons that have executed Service Agreements under the NYISO's Market Administration and Control Area Services Tariff, to the New York State Public Service Commission, and to the electric utility regulatory agencies in New Jersey and Pennsylvania.

Comment Date: June 5, 2002.

7. NRG Sterlington Power LLC

[Docket No. ER00-3718-001]

Take notice that on May 15, 2002, NRG Sterlington Power LLC tendered for filing an updated market power study in compliance with the Commission's order in Koch Power Louisiana, LLC, Docket No. ER99-637-000, 86 FERC ¶ 61,029 (1999).

Comment Date: June 5, 2002.

8. New York Independent System Operator, Inc.

[Docket No. ER02-1796-000]

Take notice that on May 16, 2002, the New York Independent System Operator, Inc. (NYISO) tendered for filing proposed revisions to the NYISO Agreement. The NYISO requests an effective date of one business day after this filing (May 17, 2002).

Copies of this filing were served upon all parties that have executed Service Agreements under the NYISO's Open-Access Transmission Tariff or Services Tariff, to the New York State Public Service Commission, and to the electric utility regulatory agencies in New Jersey and Pennsylvania.

Comment Date: June 6, 2002.

9. NEO California Power LLC

[Docket No.ER02-1809-000]

On May 14, 2002, NEO California Power LLC (NEO California) filed with the Federal Energy Regulatory Commission (1) an amended and restated Summer Reliability Agreement dated December 5, 2001 between the California Independent System Operator Corporation (Cal ISO) and NEO California (Chowchilla II), as Service Agreement No. 2 to NEO California's FERC Electric Tariff, Original Volume No. 1; and (2) an amended and restated Summer Reliability Agreement dated December 5, 2001 between the California Independent System Operator Corporation (Cal ISO) and NEO California (Red Bluff), as Service Agreement No. 3 to NEO California's FERC Electric Tariff, Original Volume No. 1.

Comment Date: June 4, 2002.

10. PPL Electric Utilities Corporation

[Docket No. ER02-1810-000]

Take notice that on May 14, 2002, PPL Electric Utilities Corporation (PPL Electric) filed an Interchange Scheduling Procedures and Data Access Agreement between PPL Electric and Allegheny Electric Cooperative, Inc. (Allegheny).

PPL Electric states that a copy of this filing has been provided to Allegheny.

Comment Date: June 4, 2002.

11. PPL Electric Utilities Corporation

[Docket No. ER02-1811-000]

Take notice that on May 14, 2002, PPL Electric Utilities Corporation (PPL Electric) filed an Interchange Scheduling Procedures and Data Access Agreement between PPL Electric and Allegheny Electric Cooperative, Inc. (Allegheny).

PPL Electric states that a copy of this filing has been provided to Allegheny.

Comment Date: June 4, 2002.

12. Global Advisors Power Marketing L.P.

[Docket No. ER02-1812-000]

Take notice that on May 14, 2002, Global Advisors Power Marketing L.P. (Global Advisors) filed with the Federal Energy Regulatory Commission (Commission) a Notice of Succession pursuant to Sections 35.16 and 131.51 of the Commission's Regulations, 18 CFR 35.16 and 131.51. As a result of a name change, Global Advisors is succeeding to the FERC Electric Tariff of GA Power Marketing L.P., effective May 6, 2002. The tariff sheets filed by GA Power Marketing L.P. in Docket No. ER02-1256-000 are cancelled.

Comment Date: June 4, 2002.

13. Commonwealth Edison Company

[Docket No. ER02-1813-000]

Take notice that on May 14, 2002, Commonwealth Edison Company (ComEd) submitted for filing a Service Agreement for Non-Firm Point-to-Point Transmission Service and a Service Agreement for Short-Term Firm Point-to-Point Transmission Service between ComEd and UBS AG, London Branch (UBS London) and a Service Agreement for Non-Firm Point-to-Point Transmission Service and a Service Agreement for Short-Term Firm Point-to-Point Transmission Service between ComEd and enXco, Inc. (enXco) under ComEd's FERC Electric Tariff, Second Revised Volume No. 5.

ComEd seeks an effective date of April 17, 2002 for the Agreements with UBS London and an effective date of April 22, 2002 for the Agreements with enXco and, accordingly, seeks waiver of the Commission's notice requirements. ComEd states that a copy of this filing has been served on UBS London, enXco and the Illinois Commerce Commission.

Comment Date: June 4, 2002.

14. NRG Sterlington Power LLC

[Docket No. ER02-1814-000]

On May 14, 2002, NRG Sterlington Power LLC (NRG Sterlington) filed with the Federal Energy Regulatory Commission pursuant to 18 CFR 35.13 an unexecuted Amended and Restated Power Purchase Agreement with Louisiana Generating LLC, as First Revised Service Agreement No. 1 to NRG Sterlington's FERC Electric Tariff, Original Volume No. 1.

Comment Date: June 4, 2002.

15. NRG Sterlington Power LLC

[Docket No. ER02-1815-000]

On May 14, 2002, NRG Sterlington Power LLC filed under section 205 of the Federal Power Act, Part 35 of the regulations of the Federal Energy Regulatory Commission (Commission), and Commission Order No. 614, a request that the Commission (1) accept for filing a revised market-based rate tariff; (2) waive any obligation to submit a red-lined version of the currently effective tariff; and (3) grant any waivers necessary to make the revised tariff sheets effective as soon as possible, but no later than 60 days from the date of this filing. NRG Sterlington's proposed tariff revisions will permit NRG Sterlington to sell ancillary services, in addition to selling electric capacity and energy at market based rates. The revisions also seek to properly designate, update and conform the tariff to a format like those that the Commission has approved for NRG Sterlington's affiliates.

Comment Date: June 4, 2002.

16. American Electric Power Service Corporation

[Docket No. ER02-1816-000]

Take notice that on May 15, 2002, the American Electric Power Service Corporation (AEPSC) tendered for filing an executed Interconnection and Operation Agreement between Ohio Power Company and Northwest Fuel Development, Inc. The agreement is pursuant to the AEP Companies' Open Access Transmission Service Tariff (OATT) that has been designated as the Operating Companies of the American Electric Power System FERC Electric Tariff Revised Volume No. 6, effective June 15, 2000.

AEP request an effective date of July 13, 2002. A copy of this filing was served upon the Public Utilities Commission of Ohio.

Comment Date: June 5, 2002.

17. American Electric Power Service Corporation

[Docket No. ER02-1817-000]

Take notice that on —May 15, 2002, the American Electric Power Service Corporation (AEPSC) tendered for filing an executed Interconnection and Operation Agreement between Ohio Power Company and Lima Energy Company. The agreement is pursuant to the AEP Companies' Open Access Transmission Service Tariff (OATT) that has been designated as the Operating Companies of the American Electric Power System FERC Electric Tariff Second Revised Volume No. 6, effective June 15, 2000.

AEP requests an effective date of July 13, 2002. A copy of the filing was served upon Lima Energy Company and the Public Utilities Commission of Ohio.

Comment Date: June 5, 2002.

18. Deseret Generation & Transmission Co-operative, Inc.

[Docket No. ER02-1818-000]

Take notice that on May 15, 2002, Deseret Generation & Transmission Co-operative, Inc. (Deseret) tendered an informational filing in compliance with Service Agreements on file with the Federal Energy Regulatory Commission. The filing sets forth the revised approved costs for member-owned generation resources and the revised approved reimbursements under its Resource Integration Agreements with two of its members, Garkane Power Association, Inc. and Moon Lake Electric Association, Inc. A copy of this filing has been served upon all of Deseret's members.

Comment Date: June 5, 2002.

19. Deseret Generation & Transmission Co-operative, Inc.

[Docket No. ER02-1819-000]

Take notice that on May 15, 2002, Deseret Generation & Transmission Co-operative, Inc. (Deseret) tendered for filing with the Federal Energy Regulatory Commission (Commission) an executed umbrella service agreements with Sempra Energy Trading Corp., El Paso Merchant Energy, LP, and FPL Energy Marketing, Inc. pursuant to Deseret's open access transmission tariff and the provisions of Order No. 888-A.

Deseret requests a waiver of the Commission's notice requirements for an effective date of May 10, 2002. Each of the transmission customers has been provided a copy of this filing.

Comment Date: June 5, 2002.

20. Consolidated Edison Company of New York, Inc.

[Docket No. ER02-1820-000]

Take notice that on May 15, 2002, Consolidated Edison Company of New York, Inc. (Con Edison) tendered for filing an agreement entitled “Amendment to April 24, 1987 Agreement for the Delivery of Power & Energy from the James A. Fitzpatrick Nuclear Power Project,” dated November 29, 2001 (November 29, 2001 Agreement), and a proposed supplement to its Rate Schedule FERC No. 92.

The proposed supplement—supplement No. 9 to Rate Schedule FERC No. 92, applicable to electric delivery service to commercial and industrial economic development customers of the County of Westchester Public Service Agency (COWPUSA) or the New York City Public Utility Service (NYCPUS) identifies the November 29, 2001 Agreement on the title page of the rate schedule and conforms terminology in the rate schedule to that in the November 29, 2001 Agreement.

Con Edison seeks permission to make the rate increase to NYPA public customer service effective as of June 1, 2002. A copy of this filing has been served on COWPUSA, NYCPUS, and the New York Public Service Commission.

Comment Date: June 5, 2002.

21. Entergy Services, Inc.

[Docket No. ER02-1821-000]

Take notice that on May 15, 2002, Entergy Services, Inc., on behalf of Entergy Gulf States, Inc. (Entergy Gulf States), tendered for filing six copies of a Notice of Termination of the Interconnection and Operating Agreement and Generator Imbalance Agreement between Entergy Gulf States and Amelia Energy Center, LP.

Comment Date: June 5, 2002.

22. Entergy Services, Inc.

[Docket No. ER02-1822-000]

Take notice that on May 15, 2002, Entergy Services, Inc., on behalf of Entergy Louisiana, Inc. (Entergy Louisiana), tendered for filing six copies of a Notice of Termination of the Interconnection and Operating Agreement and Generator Imbalance Agreement between Entergy Louisiana and CII Carbon LLC.

Comment Date: June 5, 2002.

23. Entergy Services, Inc.

[Docket No. ER02-1823-000]

Take notice that on May 15, 2002, Entergy Services, Inc., on behalf of Entergy Arkansas, Inc. (Entergy Arkansas), tendered for filing six copies of a Notice of Termination of the Interconnection and Operating Agreement and Generator Imbalance Agreement between Entergy Arkansas and GenPower Keo, LLC.

Comment Date: June 5, 2002.

24. Northern Indiana Public Service Company

[Docket No. ER02-1824-000]

Take notice that on May 15, 2002, Northern Indiana Public Service Company tendered for filing with the Federal Energy Regulatory Commission (Commission) an executed Standard Transmission Service Agreement for Non-Firm Point-to-Point Transmission Service between Northern Indiana Public Service Company and UBS AG, London Branch, c/o UBS Warburg Energy LLC (UBS).

Under the Transmission Service Agreement, Northern Indiana Public Service Company will provide Non-Firm Point-to-Point Transmission Service to UBS pursuant to the Transmission Service Tariff filed by Northern Indiana Public Service Company in Docket No. OA96-47-000 and allowed to become effective by the Commission. Northern Indiana Public Service Company has requested that the Service Agreement be allowed to become effective as of May 16, 2002.

Comment Date: June 5, 2002.

25. Cleco Power LLC

[Docket No. ER02-1825-000]

Take notice that on May 16, 2002, Cleco Power LLC, tendered for filing service agreements under which Cleco Power will provide short-term firm point-to-point transmission service and non-firm point-to-point transmission service to Cleco Power LLC under its Open Access Transmission Tariff.

Comment Date: June 6, 2002.

26. ALLETE, Inc.(formerly Minnesota Power, Inc., d/b/a Minnesota Power)

[Docket No. ER02-1826-000]

Take notice that on May 16, 2002, ALLETE, Inc. (formerly Minnesota Power, Inc., d/b/a Minnesota Power) (MP) tendered for filing with the Federal Energy Regulatory Commission (Commission), a letter requesting Commission approval of MP's assignment of its membership in the Western Systems Power Pool (WSPP) to Rainy River Energy Corporation. Such assignment is allowed under Section 14 of the WSPP Agreement.

A copy of the filing was served upon the General Counsel to the WSPP.

Comment Date: June 6, 2002.

27. FirstEnergy Solutions Corp.

[Docket No. ER02-1827-000]

Take notice that on May 16, 2002, FirstEnergy Solutions Corp. (FirstEnergy) submitted for informational purposes a Service Agreement No. 4 under FirstEnergy's market-based rate power sales tariff, FirstEnergy Solutions Corp., FERC Electric Tariff, Original Volume No. 1, between FirstEnergy and Duquesne Light Company.

Comment Date: June 6, 2002.

28. Wisconsin Public Service Corporation

[Docket No. ER02-1828-000]

Take notice that on May 16, 2002, Wisconsin Public Service Corporation (WPSC) tendered for filing a revised partial requirements service agreement with Washington Island (WIEC). Third Revised Service Agreement No. 9 provides WIEC's contract demand nominations for January 2002—December 2006, under WPSC's W-2A partial requirements tariff.

The company states that copies of this filing have been served upon WIEC and to the State Commissions where WPSC serves at retail.

Comment Date: June 6, 2002.

29. Exelon Generation Company, LLC

[Docket No. ER02-1829-000]

Take notice that on May 16, 2002, Exelon Generation Company, LLC (Exelon Generation), submitted for filing a power sales service agreement between Exelon Generation and Select Energy, Inc., under Exelon Generation's wholesale power sales tariff, FERC Electric Tariff Original Volume No. 2

Comment Date: June 6, 2002.

30. PacifiCorp

[Docket No. ER02-1830-000]

Take notice that PacifiCorp on May 16, 2002, tendered for filing with the Federal Energy Regulatory Commission (Commission), in accordance with 18 CFR Part 35 of the Commission's Rules and Regulations, a Notice of Cancellation of Service Agreements No. 51 and 66 under PacifiCorp's FERC Electric Tariff, Third Revised Volume No. 12 for Long Term Service Agreements entered on June 6, 2000 and November 5, 1998 between Flathead Electric Cooperative and PacifiCorp.

Copies of this filing were supplied to Flathead Electric Cooperative, the Public Utility Commission of Oregon and Montana Public Service Commission.

Comment Date: June 6, 2002.

31. ManChief Power Company, L.L.C.

[Docket No. ER02-1831-000]

Take notice that on May 15th, 2002, ManChief Power Company, L.L.C., filed with the Federal Energy Regulatory Commission (Commission) a Notice of Succession pursuant to 18 CFR 35.16 and 131.51 of the Commission's regulations. ManChief has partially succeeded to Fulton Cogeneration Associates, L.P.”s FERC Electric Tariff, Original Volume No. 1, Docket No. ER01-324 and Service Agreement No. 1 Under FERC Tariff, Original Volume No. 1.

Comment Date: June 5, 2002.

32. California Independent System Operator Corporation

[Docket No. ER02-1833-000]

Take notice that on May 17, 2002, the California Independent System Operator Corporation (ISO) tendered for filing with the Federal Energy Regulatory Commission (Commission), a Scheduling Coordinator Agreement between the ISO and FPL Energy Power Marketing, Inc. for acceptance by the Commission.

The ISO states that this filing has been served on FPL Energy Power Marketing, Inc. and the California Public Utilities Commission.

The ISO is requesting waiver of the 60-day notice requirement to allow the Scheduling Coordinator Agreement to be made effective as of May 15, 2002.

Comment Date: June 7, 2002.

33. California Independent System Operator Corporation

[Docket No. ER02-1834-000]

Take notice that on May 17, 2002, the California Independent System Operator Corporation (ISO) tendered for filing with the Federal Energy Regulatory Commission (Commission), an unexecuted Participating Generator Agreement between the ISO and the City of Riverside, California (Riverside) for acceptance by the Commission.

The ISO states that this filing has been served on Riverside and the Public Utilities Commission of the State of California.

The ISO is requesting waiver of the 60-day notice requirement to allow the Participating Generator Agreement to be made effective May 10, 2002.

Comment Date: June 7, 2002.

34. Rochester Gas and Electric Corporation

[Docket No. ER02-1836-000]

Take notice that on May 17, 2002, Rochester Gas and Electric Corporation (RG&E) filed with the Federal Energy Regulatory Commission (Commission), an Application in the above-referenced proceeding requesting that the Commission extend the authorization previously granted to RG&E to make sales to an affiliate in conjunction with the Retail Access Program.

Comment Date: June 7, 2002.

35. Canal Electric Company

[Docket No. ER02-1837-000]

Take notice that on May 17, 2002, Canal Electric Company (Canal Electric ) tendered for filing an amendment (Ninth Amendment) to its FPC Rate Schedule No. 33 supplementing and providing for the termination of its contract (the Power Contract) for the sale of electricity from Canal Electric's ownership share in the Seabrook Unit 1 nuclear power plant in Seabrook, New Hampshire to Cambridge Electric Light Company and Commonwealth Electric Company. Canal Electric requests a July 17, 2002 effective date for the Ninth Amendment.

Canal Electric states that the Ninth Amendment is filed in conjunction with the sale by Canal Electric of its 3.52% ownership share in the Seabrook Nuclear Power Plant and in Seabrook Unit 1 nuclear fuel.

Copies of the filing were served upon Canal Electric's jurisdictional customers, the Massachusetts Attorney General, and the Massachusetts Department of Telecommunications and Energy.

Comment Date: June 7, 2002.

36. FPL Energy Seabrook, LLC

[Docket No. ER02-1838-000]

Take notice that on May 17, 2002, FPL Energy Seabrook, LLC (FPLE Seabrook) filed an application for authorization to sell energy, capacity and ancillary services at market-based rates pursuant to section 205 of the Federal Power Act.

Comment Date: June 7, 2002.

37. Ameren Services Company

[Docket No. ER02-1839-000]

Take notice that on May 17, 2002, Ameren Services Company (ASC) tendered for filing Service Agreements for Firm Point-to-Point Transmission Service and Non-Firm Point-to-Point Transmission Service between ASC and UBS AG, London Branch. ASC asserts that the purpose of the Agreements is to permit ASC to provide transmission service to UBS AG, London Branch pursuant to Ameren's Open Access Transmission Tariff.

Comment Date: June 7, 2002.

38. Public Service Company of New Mexico

[Docket No. ER02-1840-000]

Take notice that on May 17, 2002, Public Service Company of New Mexico (PNM) submitted for filing three executed service agreements for firm point-to-point transmission service and ancillary services, between PNM Transmission Development and Contracts (Transmission Provider) and PNM Wholesale Power Marketing (Transmission Customer), under the terms of PNM's Open Access Transmission Tariff. The first agreement is for 100 MW of reserved transmission capacity from the San Juan Generating Station 345kV Switchyard (San Juan) to the Coronado Generating Station 500kV Switchyard. The second agreement is for 18 MW of reserved transmission capacity from the Palo Verde Generating Station 500kV Switchyard to the Westwing 345kV Switching Station. These two agreements are the result of the Transmission Customer exercising its Right of First Refusal to extend service under respective predecessor service agreements. The third agreement represents a change in reserved transmission capacity requirements in a corresponding pre-Order 888 bundled transmission agreement (through an intervening system) from which the Transmission Provider obtains transmission service for the Transmission Customer. The agreement is for 13 MW of reserved transmission capacity from San Juan to the Greenlee 345kV Switching Station. PNM requests an effective date of May 1, 2002 for the first agreement and June 1, 2002 for the other two agreements. PNM's filing is available for public inspection at its offices in Albuquerque, New Mexico.

Copies of the filing have been sent to PNM Wholesale Power Marketing, PNM Transmission Development and Contracts, the New Mexico Public Regulation Commission and the New Mexico Attorney General.

Comment Date: June 7, 2002.

39. Public Service Company of New Mexico

[Docket No. ER02-1841-000]

Take notice that on May 17, 2002, Public Service Company of New Mexico (PNM) submitted for filing two executed service agreements for point-to-point transmission service with Florida Power & Light Energy Power Marketing, Inc. (FPL), under the terms of PNM's Open Access Transmission Tariff. One agreement is for Non-Firm service and one agreement for Short-Term Firm Service. PNM requests May 3, 2002, as the effective date for each agreement. PNM's filing is available for public inspection at its offices in Albuquerque, New Mexico.

Copies of the filing have been sent to FPL, the New Mexico Public Regulation Commission and the New Mexico Attorney General.

Comment Date: June 7, 2002.

40. Midwest Independent Transmission System Operator, Inc.

[Docket No. ER02-1843-000]

Take notice that on May 17, 2002, pursuant to Section 205 of the Federal Power Act and Section 35.13 of the Federal Energy Regulatory Commission's (Commission) regulations, 18 CFR 35.13), the Midwest Independent Transmission System Operator, Inc. (Midwest ISO), the Administrator of the Mid-Continent Area Power Pool (MAPP) Tariff, submitted for filing a Service Agreement for transmission service for Northwestern Wisconsin Electric under MAPP Schedule F.

A copy of this filing was sent to Northwestern Wisconsin Electric.

Comment Date: June 7, 2002.

41. Midwest Independent Transmission System Operator, Inc.

[Docket No. ER02-1844-000]

Take notice that on May 17, 2002, pursuant to Section 205 of the Federal Power Act and Section 35.13 of the Federal Energy Regulatory Commission's (Commission) regulations, 18 CFR 35.13, the Midwest Independent Transmission System Operator, Inc. (Midwest ISO), the Administrator of the Mid-Continent Area Power Pool (MAPP) Tariff, submitted for filing a Service Agreement for transmission service for Northwestern Wisconsin Electric under MAPP Schedule F.

A copy of this filing was sent to Northwestern Wisconsin Electric.

Comment Date: June 7, 2002.

42. Midwest Independent Transmission System Operator, Inc.

[Docket No. ER02-1845-000]

Take notice that on May 17, 2002, pursuant to Section 205 of the Federal Power Act and Section 35.13 of the Federal Energy Regulatory Commission's (Commission) regulations, 18 CFR 35.13, the Midwest Independent Transmission System Operator, Inc. (Midwest ISO), the Administrator of the Mid-Continent Area Power Pool (MAPP) Tariff, submitted for filing a Service Agreement for transmission service for Split Rock Energy under MAPP Schedule F.

A copy of this filing was sent to Split Rock Energy.

Comment Date: June 7, 2002.

43. Midwest Independent Transmission System Operator, Inc.

[Docket No. ER02-1846-000]

Take notice that on May 17, 2002, pursuant to Section 205 of the Federal Power Act and Section 35.13 of the Federal Energy Regulatory Commission's (Commission) regulations, 18 CFR 35.13, the Midwest Independent Transmission System Operator, Inc. (Midwest ISO), the Administrator of the Mid-Continent Area Power Pool (MAPP) Tariff, submitted for filing Service Agreements for transmission service for UBS AG, London Branch under MAPP Schedule F.

A copy of this filing was sent to UBS AG, London Branch.

Comment Date: June 7, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-13484 Filed 5-29-02; 8:45 am]

BILLING CODE 6717-01-P